DEPARTMENT OF LABOR

Employment and Training Administration

Investigations Regarding Certifications of Eligibility to Apply for NAFTA Transitional Adjustment Assistance

Petitions for transitional adjustment assistance under the North American Free Trade Agreement-Transitional Adjustment Assistance Implementation Act (Pub. L. 103-182), hereinafter called (NAFTA-TAA), have been filed with State Governors under Section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than April 2, 2001.

Also, interested persons are invited to submit written comments regarding the subject matter of the petitions to the Director of DTAA at the address shown below not later than April 2, 2001.

Petitions filed with the Governors are available for inspection at the Office of the Director, DTAA, ETA, DOL, Room C-5311, 200 Constitution Avenue, NW., Washington, DC 20210.

Signed at Washington, DC this 8th day of March 2001.
Edward A. Tomchick,
Director, Division of Trade Adjustment Assistance.

Appendix
Subject firm | Location | Date received at Governor's office | Petition number | Articles produced
York International (Co.) | Portland, OR | 01/29/2001 | NAFTA-4,523 | Air systems.
Philips Consumer Electronics (Wkrs) | Knoxville, TN |  | NAFTA-4,524 | Cartons.
C-Cor.Net (Wkrs) | State College, PA | 02/09/2001 | NAFTA-4,525 | Cable television amplifiers.
Key Tronic (Co.) | Spokane, WA | 02/09/2001 | NAFTA-4,526 | Plastic molded parts.
Flint—Commercial Printing Ink (Wkrs) | W. St. Paul, MN | 02/08/2001 | NAFTA-4,527 | Printing ink.
Fruit of the Loom (Co.) | Greenville, MS | 01/30/2001 | NAFTA-4,528 | Garments.
International Paper (PACE) | Cincinnati, OH | 01/31/2001 | NAFTA-4,529 | Folding cartons.
Sterling Last (Co.) | Henderson, TN | 02/08/2001 | NAFTA-4,530 | Shoe last.
Xerox—North American Mfg. (UNITE) | Webster, NY | 02/07/2001 | NAFTA-4,531 | Copiers.
Olsonite Corporation (Wkrs) | Algoma, WI | 02/07/2001 | NAFTA-4,532 | Seats.
Woodgrain Millwork (Co.) | Fruitland, ID | 02/05/2001 | NAFTA-4,533 | Door parts & window parts.
Fleetguard Nelson Logistics (Wkrs) | Black River Falls, WI | 02/02/2001 | NAFTA-4,534 | Exhaust & filtration.
Owens Corning (GMPPA) | Newark, OH | 02/07/2001 | NAFTA-4,535 | Glass.
Thrall Cor—Duchossois Industries (IBB) | Chicago Heights, IL | 02/02/2001 | NAFTA-4,536 | Freight rail cars.
Dietrich Milk Products (IBT) | Middlebury Center, PA | 02/06/2001 | NAFTA-4,537 | Whole milk powder.
Chinatex America Holding (Co.) | New York, NY | 02/06/2001 | NAFTA-4,538 | Apparel.
Sony Disc Manufacturing (Co.) | Carrollton, GA | 02/12/2001 | NAFTA-4,539 | Cassette tapes.
Rossville Chromatex—Culp (UNITE) | West Hazelton, PA | 02/12/2001 | NAFTA-4,540 | Woven upholstry materials.
Weyerhaeuser (Wkrs) | Dierks, AR | 02/12/2001 | NAFTA-4,541 | Plywood, pine lumber.
Weyerhaeuser (Wkrs) | Mt. Pine, AR | 02/12/2001 | NAFTA-4,542 | Millwork products & lumber.
Agrifrozen Foods—Agrilink (IBT) | Salem, OR | 02/10/2001 | NAFTA-4,543 | Vegetable processing.
CAE Newnes (Co.) | Sherwood, OR | 02/09/2001 | NAFTA-4,544 | Lumber handling equipment.
Accuride Corporation (Wkrs) | Henderson, KY | 02/12/2001 | NAFTA-4,545 | Steel rims and wheels.
Dave Szalay Logging (Co.) | Whitefish, MT | 02/08/2001 | NAFTA-4,546 | Saw logs.
ASARCO (Co.) | East Helena, MT | 02/09/2001 | NAFTA-4,547 | Ore concentrate.
Louisiana Pacific (Co.) | Jasper, TX | 02/13/2001 | NAFTA-4,548 | Studs.
Matsushita Battery Industrial Corp. (Co.) | Columbus, GA | 02/13/2001 | NAFTA-4,549 | Batteries.
Freightliner (Co.) | Mt. Holly, SC | 02/14/2001 | NAFTA-4,550 | Trucks.
West Print Stevens (UNITE) | Roanoke Rapids, NC | 02/16/2001 | NAFTA-4,551 | Weaving for towels & washcloths.
Motorola (Wkrs) | Harvard, IL | 02/13/2001 | NAFTA-4,552 | Cellular telephones.
United Technologies Automotives—Lear (Co.) | Zaneville, OH | 02/16/2001 | NAFTA-4,553 | Headlight switches.
Haggar Clothing (Co.) | Edinburg, TX | 02/15/2001 | NAFTA-4,554 | Men's pants, walk shorts & coats.
Brown Wooten Mills (Wkrs) | Mt. Airy, NC | 02/15/2001 | NAFTA-4,555 | Socks & tights.
Equistar Fort Arthur (PLU) | Fort Arthur, TX | 02/14/2001 | NAFTA-4,556 | Polyethlene plastics.
M and S Sewing (Wkrs) | Van Nuys, CA | 02/14/2001 | NAFTA-4,557 | Blouse & uniform wear.
Modus Media International (Wkrs) | Fremont, CA | 02/14/2001 | NAFTA-4,558 | Telecommunication.
Avery Dennison (Wkrs) | Quakertown, PA | 02/14/2001 | NAFTA-4,559 | Pressure sensitive materials.
Erie Forge and Steel (Wkrs) | Erie, PA | 02/12/2001 | NAFTA-4,560 | Steel.
Dearborn Brass—Moen (GMPPA) | Tyler, TX | 02/13/2001 | NAFTA-4,561 | Metal traps.
Quadion Company (USWA) | Mason City, IA | 02/13/2001 | NAFTA-4,562 | Rubber power brake.
HPM Corporation (Wkrs) | Mt. Gilead, OH | 02/16/2001 | NAFTA-4,563 | Injection molding machines.
Deltrol Corporation (IAM) | Milwaukee, WI | 02/16/2001 | NAFTA-4,564 | Busings, clamps, bar stock, castings.
Cummins (Co.) | Charleston, SC | 02/16/2001 | NAFTA-4,565 | Cylinder heads.
Allison Manufacturing (Co.) | Albermarle, NC | 02/15/2001 | NAFTA-4,566 | Children's apparel.
Crown Pacific Limited Partnership (Wkrs) | Bonners Ferry, IL | 01/19/2001 | NAFTA-4,567 | Lumber.
Ansell Golden Needles-Ansell Healthcare (Co.) | Wilkesboro, NC | 02/20/2001 | NAFTA-4,568 | Glove.
Blount (Co.) | Prentice, WI | 02/22/2001 | NAFTA-4,569 | Prentice hydraulic log loaders.
Amphenol Corporation (IAMAW) | Sidney, NY | 02/20/2001 | NAFTA-4,570 | Connectors.
PerkinElmer Optoelectronics (UAW) | St. Louis, MO | 02/22/2001 | NAFTA-4,571 | Pellets, silicon wafer & CIRD Sensors.
Paper Converting Machine (PACE) | Green Bay, WI | 02/23/2001 | NAFTA-4,572 | Paper rolls, die cutters.
Medley Company Cedar (Co.) | Pierce, ID | 02/22/2001 | NAFTA-4,573 | Split rail fencing.
Genicom Corporation (Wkrs) | Waynesboro, VA | 02/23/2001 | NAFTA-4,574 | Warehousing, stockroom & repair.
Gorge Lumber (Co.) | Portland, OR | 02/23/2001 | NAFTA-4,575 | Spruce pine fir boards.
Gettys (Co.) | Racine, WI | 02/22/2001 | NAFTA-4,576 | Motor & assembly.
GST Steel (USWA) | Kansas City, MO | 02/21/2001 | NAFTA-4,577 | Steel rods & steel grinding balls.
Sample Service (Wkrs) | New York, NY | 02/20/2001 | NAFTA-4,578 | Books, sample cards, bindery.
Axiohm (IAMAW) | Ithaca, NY | 02/20/2001 | NAFTA-4,579 | Receipt printers
Corning Cable Systems (Co.) | Pensacola, FL | 02/15/2001 | NAFTA-4,580 | Cable systems.
Eagle Knitting Mills (Co.) | Shawan, WI | 02/19/2001 | NAFTA-4,581 | Apparel.
Pangborn Corporation (UAW) | Hagerstown, MD | 02/13/2001 | NAFTA-4,582 | Blast cleaning machinery.
Munro and Company (Co.) | Monett, MO | 02/23/2001 | NAFTA-4,583 | Sandals & shoes.
International Paper (Co.) | Milford, ME | 02/15/2001 | NAFTA-4,584 | Studs.
Presto Products (Wkrs) | Alamogordo, NM | 01/22/2001 | NAFTA-4,585 | Aluminum pots & pans.
O-Z Gedney (Co.) | Pittston, PA | 02/21/2001 | NAFTA-4,586 | Electrical fittings .
Thompson River Lumber (Wkrs) | Thompson Falls, MT | 02/22/2001 | NAFTA-4,587 | Dimension lumber & lumber.
Capitol Manufacturing (Co.) | Fayetteville, NC | 02/22/2001 | NAFTA-4,588 | Wooden picture frame moulding.
Puget Plastics (Co.) | Tualatin, OR | 02/24/2001 | NAFTA-4,589 | Plastic injection molded parts.
Thermal Corporation (Wkrs) | Selmer, TN | 02/21/2001 | NAFTA-4,590 | Steel hammer handles.

[FR Doc. 01-6966 Filed 3-20-01; 8:45 am]

BILLING CODE 4510-30-M